DEPARTMENT OF AGRICULTURE

Forest Service

Ashley Resource Advisory Committee

AGENCY: Forest Service, USDA.

ACTION: Notice of meeting.

SUMMARY: The Ashley Resource Advisory Committee will meet in Vernal, Utah. The committee is meeting as authorized under the Secure Rural Schools and Community Self-Determination Act (Pub.L. 110-343) and in compliance with the Federal Advisory Committee Act. The purpose of the meeting is conduct “welcomes” and introductions, review the Federal Advisory Committee Act requirements, brief participants on Payments to States legislative history, discuss the guidelines for Title II and Title III funding and proposals, capture and record preliminary project ideas and receive public comment on the meeting subjects and proceedings.

DATES: The meeting will be held October 29, 2010, from 6 p.m. to 8 p.m.

ADDRESSES: The meeting will be held in the Interagency Fire Dispatch Center conference room at the Ashley National Forest Supervisor's Office, 355 North Vernal Avenue in Vernal, Utah. Written comments should be sent to Ashley National Forest, 355 North Vernal Avenue, Vernal, UT 84078. Comments may also be sent via e-mail to ljhaynes@fs.fed.us, or via facsimile to 435-781-5142. All comments, including names and addresses when provided, are placed in the record and are available for public inspection and copying. The public may inspect comments received at Ashley National Forest, 355 North Vernal Avenue, Vernal, UT.

FOR FURTHER INFORMATION CONTACT: Louis Haynes, RAC Coordinator, Ashley National Forest, (435) 781-5105; e-mail: Ijhaynes@fs.fed.us. Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Welcome and roll call; (2) Approval of minutes from the first meeting; (3) Review of committee operational guidelines; (4) Review concept papers received; (5) Discussion of preliminary project ideas; (6) Review of next meeting purpose, location, and date; (7) Receive public comment. Persons who wish to bring related matters to the attention of the Committee may file written statements with the committee staff before or after the meeting. Public input sessions will be provided and individuals who made written requests by October 21, 2010 will have the opportunity to address the committee.

Dated: September 21, 2010.
Kevin B. Elliott,
Forest Supervisor.

[FR Doc. 2010-24333 Filed 9-28-10; 8:45 am]

BILLING CODE 3410-11-M